DEPARTMENT OF TRANSPORTATION

Federal Highway Administration

Environmental Impact Statement: Currituck and Dare Counties, NC

AGENCY: Federal Highway Administration (FHWA), DOT.

ACTION: Rescinding of Notice of Intent and Draft Environmental Impact Statement (DEIS).

SUMMARY: The FHWA is issuing this notice to advise the public that we are rescinding the notice of intent and the public notice to prepare an environmental impact statement (EIS) for a proposed highway project in Currituck and Dare Counties, North Carolina.

FOR FURTHER INFORMATION CONTACT: Mr. George Hoops, P.E., Major Projects Engineer, Federal Highway Administration, 310 Bern Avenue, Suite 410, Raleigh, North Carolina 27601-1418, Telephone: (919) 747-7022.

SUPPLEMENTARY INFORMATION: The FHWA, in cooperation with the North Carolina Department of Transportation (NCDOT) and the North Carolina Turnpike Authority (NCTA), is rescinding the notice of intent to prepare an EIS for a proposed bridge and approach roadway connecting U.S. 158 on the mainland to NC 12 on the Outer Banks, crossing Currituck Sound. On July 6, 1995, FHWA issued a notice of intent to prepare an environmental impact statement (EIS) for a Mid-Currituck Sound Bridge project in Currituck and Dare Counties, North Carolina. The FHWA, in cooperation with the NCDOT, issued a Draft Environmental Impact Statement (DEIS) on the project in January 1998. FHWA and NCDOT held a public hearing and provided a comment period on the DEIS.

Since the 1998 DEIS, there have been several changes in the project including the expansion of the project study area, modification of the purpose and need statement, and analysis of additional alternatives. During this time period, state legislation and plans, including the North Carolina Intrastate System and the North Carolina Strategic Highway Corridor System, have also been developed or amended to incorporate the proposed project. In 2006, the project was adopted by the North Carolina Turnpike Authority (NCTA) for consideration as a candidate toll project, and the environmental studies for the project are now being completed by NCTA, in coordination with FHWA and NCDOT.

In light of these changes the FHWA is now rescinding the notice of intent and 1998 DEIS. The FHWA, NCDOT, and NCTA plan to prepare a new Draft EIS for the proposed project. A notice of intent to prepare the EIS will be issued subsequent to this rescinding notice. The new Draft EIS will include a toll alternative among the full range of alternatives that will be analyzed. Comments or questions concerning the decision to not prepare Final EIS should be directed to FHWA at the address provided above. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation of Federal programs and activities apply to this program.)

Dated: May 28, 2008.
George Hoops,
Major Projects Engineer, Raleigh, North Carolina.

[FR Doc. E8-12304 Filed 6-2-08; 8:45 am]

BILLING CODE 4910-22-P